SMALL BUSINESS ADMINISTRATION

[Declaration of Disaster #P010]

State of Arkansas

As a result of the President's major disaster declaration for Public Assistance on June 6, 2003, the U.S. Small Business Administration is activating its disaster loan program only for private non-profit organizations that provide essential services of a governmental nature. I find that Chicot, Cleburne, Conway, Craighead, Cross, Independence, Jackson, Madison, Newton, Perry, Poinsett, St. Francis, Van Buren, White and Woodruff Counties in the State of Arkansas constitute a disaster area due to damages caused by severe storms, tornadoes and flooding occurring from May 2, 2003, and continuing. Applications for loans for physical damage as a result of this disaster may be filed until the close of business on August 5, 2003 at the address listed below or other locally announced locations: U.S. Small Business Administration, Disaster Area 3 Office, 4400 Amon Carter Blvd., Suite 102, Ft. Worth, TX 76155.

The interest rates are:

| Percent
For Physical Damage:
Non-Profit Organizations without Credit Available Elsewhere | 2.953
Non-Profit Organizations with Credit Available Elsewhere | 5.500

The number assigned to this disaster for physical damage is P01011.

(Catalog of Federal Domestic Assistance Program Nos. 59008)
Dated: June 16, 2003.
Herbert L. Mitchell,
Associate Administrator for Disaster Assistance.

[FR Doc. 03-15812 Filed 6-20-03; 8:45 am]

BILLING CODE 8025-01-P